POSTAL SERVICE

Flat Mail Identification Code System (FICS)

ACTION: Notice.

AGENCY: Postal Service.

SUMMARY: This notice announces a new system that the United States Postal Service (USPS) plans to deploy for applying unique USPS identification (ID) codes (or “tags”) to flat-size mailpieces not bearing POSTNET barcodes. Deployment is scheduled for early 2004. Once the initial ID code is applied to the mailpiece, subsequent sorting will recognize the code and sort the flat-size piece without need for further manual keying. The ID code provides reference to access a database containing the original keying results. The application of these codes onto mailpieces will have no impact on current mailing standards or preparation requirements for flat-size mail.

FOR FURTHER INFORMATION CONTACT: George Coupar, (703) 280-7437, Engineering, United States Postal Service.

SUPPLEMENTARY INFORMATION: The manual video keying of nonbarcoded flat-size mailpieces by Postal Service employees represents a significant cost to the Postal Service. Currently, the keying of a mailpiece by video keying operators can occur several additional times as the nonbarcoded piece is sorted through stages of mail processing. In order to reduce the costs associated with this labor-intensive manual keying, the Postal Service has developed a system that should eliminate most of the additional keying.

This new system, called the Flat Mail Identification Code System (FICS), applies a unique USPS identification (ID) code (tag) to flat-size mailpieces not bearing a POSTNET barcode. The ID code, printed on a label, will be mechanically applied to the address side of the mailpiece in the bottom right or top left corner, before the address is manually resolved by a video keying operator. The FICS saves the initially keyed information in a database along with the corresponding ID code assigned to the piece. Once the FICS ID code is generated and a label containing that code is applied to the mailpiece, further manual keying will not be required for that piece as it moves through additional mail processing operations. Moreover, because a label bearing the ID code will be placed on individual flat-size pieces, this new system will provide additional capabilities in tracking and tracing these coded (tagged) flat-size pieces.

The FICS physical ID code consists of a black, International Mailing Standard, 4-state barcode printed on a white pressure-sensitive label measuring ½ inch high by 3 inches wide or ½ inch high by 4⅜ inches wide. The label is applied to the address side of nonbarcoded flats. The label, which can be manually peeled from the mailpiece, is made of the same material as is currently used by the USPS Letter Mail Labeling Machine (LMLM) which affixes labels on certain types of letter mail pieces, such as postcards.

Preproduction testing is currently in progress and the USPS expects to deploy the system nationally in the second quarter of fiscal year 2004. The USPS does not plan to introduce new mailing requirements related to FICS.

Neva R. Watson,
Attorney, Legislative, Office of Legal Policy and Ratemaking.

[FR Doc. 03-27087 Filed 10-27-03; 8:45 am]

BILLING CODE 7710-12-P